AGENCY FOR INTERNATIONAL DEVELOPMENT

Analysis of Service Contract Inventory for FY 2011 and the Planned Analysis of the FY 2012 Inventory; Notice of Availability

Pursuant to the Federal Advisory Committee Act, notice is hereby announcing the public availability of the United States Agency for International Development's Analysis of Service Contract Inventory for FY 2011 and the Planned Analysis of the FY 2012 Inventory at http://www.usaid.gov/open.

In accordance with Section 743 of Division C of the Fiscal Year (FY) 2010 Consolidated Appropriations Act, Public Law 111-117, civilian agencies are required to prepare an annual inventory of their service contracts to determine whether the contractors' skills are being utilized in an appropriate manner. As stated in the U.S. Office of Management and Budget (OMB) Memorandum of December 19, 2011 entitled, Service Contract Inventories, by December 30, 2012, USAID must submit a report for public disclosure on its analysis of the FY 2011 service contract inventory to determine if contract labor is being used in an appropriate and effective manner.

At a minimum, the analysis should identify:

(1) The Special Interest Functions Product Service Codes (PSCs) studied by the Agency;

(2) The methodology used by the Agency to support its analysis (e.g. sample contract files, conducted interviews of Agency staff working on specific contracts of interest);

(3) Actions taken or planned by the Agency to address any identified weakness or challenge.

Lisa Glufling,
Chief, Policy Division, Bureau for Management Policy, Budget and Performance, U.S. Agency for International Development.

[FR Doc. 2013-09411 Filed 4-19-13; 8:45 am]

BILLING CODE P